DEPARTMENT OF HEALTH AND HUMAN SERVICES

Indian Health Service

Produce Prescription Pilot Program

Announcement Type: New.

Funding Announcement Number: HHS-2023-IHS-PPPP-0001.

Assistance Listing (Catalog of Federal Domestic Assistance or CFDA) Number: 93.933.

Key Dates

Application Deadline Date: June 8, 2023.

Earliest Anticipated Start Date: June 23, 2023.

I. Funding Opportunity Description

Statutory Authority

The Indian Health Service (IHS) is accepting applications for a cooperative agreement for the Produce Prescription Pilot Program (P4). This program is authorized under the Snyder Act, 25 U.S.C. 13; the Transfer Act, 42 U.S.C. 2001(a); and the Consolidated Appropriations Act, 2022, Public Law 117-103, 136 Stat. 49, 398 (2022). The Assistance Listings section of SAM.gov (https://sam.gov/content/home) describes this program under 93.933.

Background

Social determinants of health (SDOH) are the conditions in the environments where individuals are born, live, learn, work, play, worship, and age, that affect health and quality of life risks and outcomes. One of the SDOH that can contribute significantly to various health disparities and inequities is access to nutritious foods. If people or communities do not have nutrition security, they are less likely to have good nutrition, placing them at risk for health problems, such as heart disease, diabetes, and obesity (https://health.gov/healthypeople/priority-areas/social-determinants-health). Studies have shown that people and communities of color, families with children, and people who live in remote areas, including Tribal communities, have a higher rate of diet-related chronic diseases (https://www.usda.gov/media/press-releases/2022/03/17/usda-announces-actions-nutrition-security). For example, according to the 2022 Centers for Disease Control National Diabetes Statistics Report, the prevalence of diagnosed diabetes was highest among American Indians and Alaska Natives (14.5 percent), followed by non-Hispanic Blacks (12.1 percent), people of Hispanic origin (11.8 percent), non-Hispanic Asians (9.5 percent) and non-Hispanic Whites (7.4 percent), compared to 8.7 percent of the United States (U.S.) population (https://www.cdc.gov/diabetes/data/statistics-report/index.html).

The food security survey conducted in 2021 by the U.S. Department of Agriculture (USDA) found 10.2 percent (13.5 million) of U.S. households were food insecure (https://www.ers.usda.gov/webdocs/publications/104656/err-309.pdf?v=8250.2). American Indian and Alaskan Native (AI/AN) people are at a greater risk for food insecurity than White Americans, Black Americans, or Hispanic Americans. About one in four AI/AN people experience food insecurity, compared to 1 in 9 Americans overall, and 1 in 12 White/non-Hispanic individuals. The higher rates of food insecurity among AI/AN people have been attributed to limited income, employment, and resources, such as lack of access to full-service grocery stores or living in food deserts (https://moveforhunger.org/native-americans-food-insecure#:~:text=About%20one%20in%20four%20Native,access%20to%20sufficient%2C%20affordable%20food). Other SDOH in Tribal communities, such as education, transportation, income etc., contribute to food insecurity. This forces many AI/AN people to choose cheaper foods that have a long shelf life instead of buying fresh foods, which are more expensive and harder to access. To help address food insecurity, many AI/AN communities utilize federally funded food programs, such as the Supplemental Nutrition Assistance Program (SNAP) and the USDA Food Distribution Program on Indian Reservations (FDPIR). Despite these assistance programs, AI/AN communities continue to struggle with high rates of food insecurity and diet-related chronic diseases.

According to the National Produce Prescription Collaborative (2021), Produce Prescription Programs have been shown to increase access to nutritious foods in communities at risk for food insecurity (https://www.nppc.health/). Produce Prescription Programs help individuals/families who are experiencing food insecurity and/or diet-related health problems more easily obtain fresh fruits and vegetables by obtaining a prescription from a health care provider. Individuals/families obtain a prescription from their health care provider for fresh fruits and vegetables that is filled by food retailers with produce. When appropriately implemented, Produce Prescription Programs improve health care outcomes, optimize medical spending, and increase patient engagement and satisfaction.

Congress has authorized funding for the IHS to create a Produce Prescription Pilot Program (P4) to increase access to produce and traditional foods within AI/AN communities. This pilot program is part of the IHS's efforts to implement the Administration's National Strategy on Hunger, Nutrition, and Health (https://www.whitehouse.gov/wp-content/uploads/2022/09/White-House-National-Strategy-on-Hunger-Nutrition-and-Health-FINAL.pdf), which aims to end hunger and increase healthy eating and physical activity by 2030 so fewer Americans experience diet-related diseases, while also reducing disparities (such as those seen in AI/AN communities). The program provides an opportunity to engage Tribal communities in addressing food insecurity and decreasing the risk for diet-related illness. By including traditional foods, it also provides an opportunity to deliver culturally appropriate nutrition education.

Purpose

The purpose of this program is to help establish Produce Prescription Programs through collaborations with stakeholders from various health care and food industries in Tribal communities. The P4 will help increase access to fruits, vegetables, and healthy traditional foods for AI/AN people by allowing eligible individuals to receive a fruit and vegetable voucher from a participating health care provider to redeem at a local market. The goal of this pilot is to demonstrate and evaluate the impact of Produce Prescription Programs on AI/AN people and their families, specifically by:

1. Reducing food insecurity;

2. Improving overall dietary health by increasing fruits, vegetables, and traditional food consumption; and

3. Improving health care outcomes.

Required Activities

(1) All recipients must implement a P4 in their communities, by:

(a) Developing the infrastructure to implement and maintain a Produce Prescription Program that fosters ongoing collaboration with one or more Tribal, Federal, or urban health care facilities and local markets/organizations/services that provide fresh fruits and vegetables and/or traditional foods (stores, markets, farmers, mobile unit, etc.);

(b) Identifying an eligible AI/AN population or Urban Indian Organization (e.g., people with diabetes or individuals with Body Mass Index (BMI)>30) that can be significantly impacted. Indicating how many eligible individuals and their families can be served with the current budget and services available.

(i) Using the U.S. Adult Food Security Survey Module (https://www.ers.usda.gov/media/8279/ad2012.pdf) to identify eligible participants to be enrolled in this program. Participants must be food insecure at baseline to participate, as defined by the U.S. Adult Food Security Survey Module.

(c) Implementing a nutrition education program that teaches program participants about proper nutrition and the impact it has on disease risk reduction and overall health. A nutrition education program should include information on cultivation and preparation for consumption of traditional foods; and

(d) Developing an evaluation plan that tracks and trends data to demonstrate the impact P4 has on the community. Data must show:

(i) Measurement of food insecurity over time using the U.S. Adult Food Security Survey Module (https://www.ers.usda.gov/media/8279/ad2012.pdf). Did food insecurity rates decrease, increase, or remain unchanged by participating in P4?

(ii) Participant's use of services offered by the program. How is the implementation of P4 measured? What percentage of participants redeem the produce vouchers? How is consumption of produce measured and what percentage of participants consume the produce? How much fruit and vegetables are consumed at baseline and how did that amount change over time, in comparison to the number of vouchers prescribed by the health care provider? Did the participants attend the education program?

(iii) Evidence of improvement in health outcomes. Are healthcare facility records available and accessible, in accordance with privacy laws, to track changes in participant's clinical parameters such as A1C and lipid levels? Are anthropometric measures also available through the healthcare facility or measured in separate facilities and made available for analysis?

(iv) Changes in access to healthy and traditional foods.

(2) Recipients must:

(a) Consult with and accept guidance from the IHS Division of Diabetes Treatment and Prevention (DDTP), the IHS Division of Grants Management (DGM), and their Federal Program Officer(s) and/or designated assignee(s);

(b) Attend quarterly conference calls established by DDTP, and provide update on the progress of P4 implementation;

(c) Respond promptly to requests for information;

(d) Provide short presentations on their processes and successes, as requested;

(e) Keep DDTP informed of emerging issues, developments, and challenges that may affect the recipient's ability to comply with the award Terms and Conditions and/or any requirements;

(f) Have an officially approved Project Director (approved by the Grants Management Officer in consultation with the Program Official) to plan/initiate and maintain the P4, who has the following qualifications:

(i) Relevant health or wellness education and/or experience;

(ii) Experience with award program management, including skills in program coordination, budgeting, reporting, and staff supervision; and

(iii) Working knowledge of nutrition and nutrition challenges in AI/AN communities.

(g) Complete and submit an annual progress report to the IHS by attaching it as a Grant Note in GrantSolutions. Instructions, template(s), and other information will be provided;

(h) Submit baseline, semi-annual, and annual/final data to the IHS; and

(i) Participate in trainings provided by DDTP.

II. Award Information

Funding Instrument—Cooperative Agreement

Estimated Funds Available

The total funding identified for fiscal year (FY) 2023 is approximately $2.5 million. This $2.5 million will be divided into individual award amounts. Each of these award amounts are anticipated to be less than $500,000 per year (applications requesting more than $500,000 will be rejected). The applicant, based on capacity, need, size of target AI/AN population, and proposed program, will request an individual award amount of $500,000 or less. For example, smaller programs will request less funding than their larger counterparts. The funding available for competing and subsequent continuation awards issued under this announcement is subject to the availability of appropriations and budgetary priorities of the Agency. The IHS is under no obligation to make awards that are selected for funding under this announcement. Selections will be made based on community needs, objectives, and outcomes that align with the goals of this pilot program.

Anticipated Number of Awards

The IHS anticipates issuing approximately six to eight awards under this program announcement.

Period of Performance

The project period is for 5 years.

Cooperative Agreement

Cooperative agreements awarded by the Department of Health and Human Services (HHS) are administered under the same policies as grants. However, the funding agency, IHS, is anticipated to have substantial programmatic involvement in the project during the entire period of performance. Below is a detailed description of the level of involvement required of the IHS.

Substantial Agency Involvement Description for Cooperative Agreement

(1) Identify a core group of IHS staff to work with the recipient in providing technical assistance and guidance.

(2) Regularly meet with the recipient to review P4 work plan and provide guidance and feedback on implementation, program evaluation, and data collection strategy and tools.

(3) Establish and convene quarterly conference calls to provide P4 updates and discuss recipient progress.

(4) Work with the recipient to display the results of this project by publishing on shared websites as well as in jointly authored publications.

(5) Use the evidence-based program(s), framework(s), and data collection requirement(s) to develop an evaluation plan to collect national program aggregate and local evidence-based practice fidelity data.

III. Eligibility Information

1. Eligibility

To be eligible for this funding opportunity, an applicant must be one of the following as defined under 25 U.S.C. 1603:

• A federally recognized Indian Tribe as defined by 25 U.S.C. 1603(14). The term “Indian Tribe” means any Indian Tribe, band, nation, or other organized group or community, including any Alaska Native village or group, or regional or village corporation, as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “Tribal organization” has the meaning given in section 4 of the Indian Self-Determination and Education Assistance Act (25 U.S.C. 5304(l)): “Tribal organization” means the recognized governing body of any Indian Tribe; any legally established organization of Indians which is controlled, sanctioned, or chartered by such governing body or which is democratically elected by the adult members of the Indian community to be served by such organization and which includes the maximum participation of Indians in all phases of its activities: provided that, in any case where a contract is let or grant made to an organization to perform services benefiting more than one Indian Tribe, the approval of each such Indian Tribe shall be a prerequisite to the letting or making of such contract or grant. Applicants shall submit letters of support and/or Tribal Resolutions from the Tribes to be served.

• An Urban Indian organization, as defined by 25 U.S.C. 1603(29). The term “Urban Indian organization” means a nonprofit corporate body situated in an urban center, governed by an Urban Indian controlled board of directors, and providing for the maximum participation of all interested Indian groups and individuals, which body is capable of legally cooperating with other public and private entities for the purpose of performing the activities described in 25 U.S.C. 1653(a). Applicants must provide proof of nonprofit status with the application, e.g., 501(c)(3).

The DGM will notify any applicants deemed ineligible.

2. Additional Information on Eligibility

The IHS does not fund concurrent projects. If an applicant is successful under this announcement, any subsequent applications in response to other P4 announcements from the same applicant will not be funded. Applications on behalf of individuals (including sole proprietorships) and foreign organizations are not eligible and will be disqualified from competitive review and funding under this funding opportunity.

Note: Please refer to Section IV.2 (Application and Submission Information/Subsection 2, Content and Form of Application Submission) for additional proof of applicant status documents required, such as Tribal Resolutions, proof of nonprofit status, etc.

3. Cost Sharing or Matching

The IHS does not require matching funds or cost sharing for grants or cooperative agreements.

4. Other Requirements

Applications with budget requests that exceed $500,000 outlined under Section II Award Information, Estimated Funds Available, or exceed the period of performance outlined under Section II Award Information, Period of Performance, are considered not responsive and will not be reviewed. The DGM will notify the applicant.

The following documentation is required (if applicable):

Tribal Resolution

The DGM must receive an official, signed Tribal Resolution prior to issuing a Notice of Award (NoA) to any Tribe or Tribal organization selected for funding. An applicant that is proposing a project affecting another Indian Tribe must include resolutions from all affected Tribes to be served. However, if an official signed Tribal Resolution cannot be submitted with the application prior to the application deadline date, a draft Tribal Resolution must be submitted with the application by the deadline date in order for the application to be considered complete and eligible for review. The draft Tribal Resolution is not in lieu of the required signed resolution but is acceptable until a signed resolution is received. If an application without a signed Tribal Resolution is selected for funding, the applicant will be contacted by the Grants Management Specialist (GMS) listed in this funding announcement and given 90 days to submit an official signed Tribal Resolution to the GMS. If the signed Tribal Resolution is not received within 90 days, the award will be forfeited. Applicants organized with a governing structure other than a Tribal council may submit an equivalent document commensurate with their governing organization.

Proof of Nonprofit Status

Organizations claiming nonprofit status must submit a current copy of the 501(c)(3) Certificate with the application.

IV. Application and Submission Information

Grants.gov uses a Workspace model for accepting applications. The Workspace consists of several online forms and three forms in which to upload documents—Project Narrative, Budget Narrative, and Other Documents. Give your files brief descriptive names. The filenames are key in finding specific documents during the merit review and in processing awards. Upload all requested and optional documents individually, rather than combining them into a package. Creating a package creates confusion when trying to find specific documents. Such confusion can contribute to delays in processing awards and could lead to lower scores during the merit review.

1. Obtaining Application Materials

The application package and detailed instructions for this announcement are available at https://www.Grants.gov.

Please direct questions regarding the application process to DGM@ihs.gov.

2. Content and Form Application Submission

Mandatory documents for all applicants include:

a. Application forms:

1. SF-424, Application for Federal Assistance.

2. SF-424A, Budget Information—Non-Construction Programs.

3. SF-424B, Assurances—Non-Construction Programs.

4. Project Abstract Summary form.

b. Project Narrative (not to exceed 25 pages). See Section IV.2.A, Project Narrative for instructions.

c. Budget Justification/Narrative (not to exceed 5 pages). See Section IV.2.B, Budget Narrative for instructions.

d. Tribal Resolution(s) as described in Section III, Eligibility.

e. 501(c)(3) Certificate, if applicable.

f. Biographical sketches for all Key Personnel.

g. Contractor/Consultant resumes or qualifications and scope of work.

h. Disclosure of Lobbying Activities (SF-LLL), if applicant conducts reportable lobbying.

i. Certification Regarding Lobbying (GG-Lobbying Form).

j. Copy of current Negotiated Indirect Cost (IDC) rate agreement (required in order to receive IDC).

k. Documentation of current Office of Management and Budget (OMB) Financial Audit (if applicable).

Acceptable forms of documentation include:

1. Email confirmation from Federal Audit Clearinghouse (FAC) that audits were submitted; or

2. Face sheets from audit reports. Applicants can find these on the FAC website at https://facdissem.census.gov/.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative

This narrative should be a separate document that is no more than 25 pages and must: (1) have consecutively numbered pages; (2) use black font 12 points or larger (applicants may use 10 point font for tables); (3) be single-spaced; and (4) be formatted to fit standard letter paper (8½ × 11 inches). Do not combine this document with any others.

Be sure to succinctly answer all questions listed under the evaluation criteria (refer to Section V.1, Evaluation Criteria) and place all responses and required information in the correct section noted below or they will not be considered or scored. If the narrative exceeds the overall page limit, the reviewers will be directed to ignore any content beyond the page limit. The 25-page limit for the project narrative does not include standard forms, Tribal Resolutions, budget, budget narratives, and/or other items. Page limits for each section within the project narrative are guidelines, not hard limits.

There are four parts to the project narrative: Part 1—Needs Assessment; Part 2—Program Description/Operational Plan; Part 3—Evaluation; and Part 4—Organizational Capabilities. See below for details about what to include in each section, and suggested page limits for each section.

Part 1: Needs Assessment (Limit—5 Pages)

Provide a description of the need for a Produce Prescription Program for the community to be served. Applicant should describe the:

(1) Profile of community socioeconomic and demographic characteristics;

(2) Profile of community diet-related health status and diseases, if available. For example, is there a higher rate of diabetes, obesity, cardiac disease, etc. in the community, due potentially to the lack of access to nutritious food;

(3) Profile of community food resources;

(4) Assessment of food resource accessibility; and

(5) Assessment of food availability, affordability, and insecurity.

Part 2: Program Description/Operational Plan (Limit—10 Pages)

Applicant should describe:

(1) The health care facility being used for this program (can be more than one facility or collective of health care providers);

(2) The local markets/organizations/services/vendors providing fresh fruits and vegetables and/or traditional foods;

(3) The screening and enrollment process—how will the participants be selected? Who (e.g., participants with diabetes, only pregnant moms, only adults, youth/adults/both, etc.) and how many will be eligible?

(a) What is the recruitment process for participants into P4? Based on estimates, how many participants can be accommodated during the budget year?

(b) What will the prescription/voucher look like? Vouchers or actual fresh produce or other means? How long is the prescription/voucher for and what is the dollar value?

(c) How will the prescription be filled? Is it a voucher redemption at a participating vendor? Or a Farmer's Market arrangement with weekly pick up or delivery? How are the participating vendors reimbursed?

(4) What are the plans for encouraging and providing fruits and vegetables and traditional foods in P4? Are there resources that can provide bulk supplies or will participants seek these foods on their own? What are the plans to provide fruits and vegetables, along with traditional foods, to help ensure a balance of both?

(5) The implementation process—how will participants navigate the system? What is required of each participant that enrolls in the program? What will the nutrition education program look like? Will it be individual and/or group sessions? Who will conduct the training and how often? Will there be a pre-test/post-test for the participants and what will it include? If not, how will effectiveness of the education program be measured over time?

(6) Participant and staff nutrition training process;

(7) Duration of program; and is there a participant retention plan?

(8) Staffing plan; and

(9) Anticipated barriers/challenges and possible solutions—geographic accessibility/food deserts, considerations for disability, transportation, etc.

Part 3: Evaluation (Limit—5 Pages)

Program Evaluation

Describe the plan for collecting data, monitoring, and assuring quality and quantity of data and the plan for evaluating and reporting the program's outcomes.

(1) Evaluation plan should include tracking and trending outcome data, such as (but not limited to):

(a) Prescription redemption and dollar amount or other value;

(b) Fruit and vegetable consumption (at baseline and at regular intervals throughout the participants involvement);

(c) Participant recruitment and retention;

(d) Food security, based on the outcomes of the U.S. Adult Food Security Survey Module (https://www.ers.usda.gov/media/8279/ad2012.pdf);

(e) Patient experience/satisfaction;

(f) Nutrition knowledge assessments over time;

(g) Implementation cost;

(h) Health outcomes/clinical markers (e.g. HbA1c, blood pressure, BMI, waist circumference, etc.) at baseline and then annually; and

(i) Health care utilization patterns.

Part 4: Organizational Capabilities (Limit—5 Pages)

Describe the broader capacity of the organization to complete the project outlined in the work plan, including:

(1) Identification and biosketches for key personnel responsible for completing tasks;

(2) Description of the structure of the organization and chain of responsibility for successful completion of the project outline in the work plan;

(3) Description of financial and project management capacity, including information regarding similarly sized projects in scope and financial assistance as well as other awards and projects successfully completed;

(4) Description of national experience in providing administrative and support services to Tribal programs, education agencies, and other Tribal programs for the benefit of AI/AN people and Tribal communities (indicate experience in national partnerships or national support efforts on behalf of AI/AN communities especially as it pertains to nutrition concerns);

(5) Description of equipment and space available for use during the proposed project; and

(6) Description of specialized experience working with Produce Prescription programs.

B. Budget Narrative (Limit—5 Pages)

Provide a budget narrative that explains the amounts requested for each line item of the budget from the SF-424A (Budget Information for Non-Construction Programs) for the first year of the project. The applicant can submit with the budget narrative a more detailed spreadsheet than is provided by the SF-424A (the spreadsheet will not be considered part of the budget narrative). The budget narrative should specifically describe how each item would support the achievement of proposed objectives. Be very careful about showing how each item in the “Other” category is justified. Do NOT use the budget narrative to expand the project narrative.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.Grants.gov). If problems persist, contact Mr. Paul Gettys, Deputy Director, DGM, by email at DGM@ihs.gov. Please be sure to contact Mr. Gettys at least 10 days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Pre-award costs are not allowable.

• The available funds are inclusive of direct and indirect costs.

• Only one cooperative agreement may be awarded per applicant.

6. Electronic Submission Requirements

All applications must be submitted via Grants.gov. Please use the https://www.Grants.gov website to submit an application. Find the application by selecting the “Search Grants” link on the homepage. Follow the instructions for submitting an application under the Package tab. No other method of application submission is acceptable.

If you cannot submit an application through Grants.gov, you must request a waiver prior to the application due date. You must submit your waiver request by email to DGM@ihs.gov. Your waiver request must include clear justification for the need to deviate from the required application submission process. The IHS will not accept any applications submitted through any means outside of Grants.gov without an approved waiver.

If the DGM approves your waiver request, you will receive a confirmation of approval email containing submission instructions. You must include a copy of the written approval with the application submitted to the DGM. Applications that do not include a copy of the waiver approval from the DGM will not be reviewed. The Grants Management Officer of the DGM will notify the applicant via email of this decision. Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, you will receive an automatic acknowledgment from Grants.gov that contains a Grants.gov tracking number. The IHS will not notify you that the application has been received.

System for Award Management

Organizations that are not registered with the System for Award Management (SAM) must access the SAM online registration through the SAM home page at https://sam.gov. Organizations based in the U.S. will also need to provide an Employer Identification Number from the Internal Revenue Service that may take an additional 2 to 5 weeks to become active. Please see SAM.gov for details on the registration process and timeline. Registration with the SAM is free of charge but can take several weeks to process. Applicants may register online at https://sam.gov.

Unique Entity Identifier

Your SAM.gov registration now includes a Unique Entity Identifier (UEI), generated by SAM.gov, which replaces the DUNS number obtained from Dun and Bradstreet. SAM.gov registration no longer requires a DUNS number.

Check your organization's SAM.gov registration as soon as you decide to apply for this program. If your SAM.gov registration is expired, you will not be able to submit an application. It can take several weeks to renew it or resolve any issues with your registration, so do not wait.

Check your Grants.gov registration. Registration and role assignments in Grants.gov are self-serve functions. One user for your organization will have the authority to approve role assignments, and these must be approved for active users in order to ensure someone in your organization has the necessary access to submit an application.

The Federal Funding Accountability and Transparency Act of 2006, as amended (“Transparency Act”), requires all HHS recipients to report information on sub-awards. Accordingly, all IHS recipients must notify potential first-tier sub-recipients that no entity may receive a first-tier sub-award unless the entity has provided its UEI number to the prime recipient organization. This requirement ensures the use of a universal identifier to enhance the quality of information available to the public pursuant to the Transparency Act.

Additional information on implementing the Transparency Act, including the specific requirements for SAM, are available on the DGM Grants Management, Policy Topics web page at https://www.ihs.gov/dgm/policytopics/.

V. Application Review Information

Possible points assigned to each section are noted in parentheses. The project narrative and budget narrative should include only the first year of activities. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to 100 possible points. Points are assigned as follows:

1. Evaluation Criteria

A. Introduction and Needs Assessment (20 Points)

This section should provide a clear description of the need for a Produce Prescription Program in the AI/AN community.

(1) Did the applicant describe the profile of community socioeconomic and demographic and diet-related health illness characteristics, as well as the community food resources?

(2) Did the applicant provide information about food resource accessibility, availability, and affordability?

B. Program Description and Operational Plan (30 Points)

This section should demonstrate a sound and effective program operational plan that will support accomplishment of deliverables and milestones of the P4. A clear and concise description of the following should be provided:

(1) The health care facility and local markets, organizations, services, and/or vendors providing fresh fruits and vegetables and/or traditional foods;

(2) The recruitment, screening, and enrollment process;

(3) The program implementation of prescribing by health care providers and redeeming fresh fruits and vegetables and/or traditional foods (if applicable) by participants (the target group);

(4) The staffing plan to implement the program as well as the process for nutrition training and education to participants and program staff; and

(5) Anticipated barriers/challenges and possible solutions.

C. Evaluation Plan (20 Points)

This section should describe the plan for collecting data, monitoring, and assuring quality and quantity of data, and the plan for evaluating and reporting the program's outcomes.

D. Organizational Capabilities (20 Points)

This section should outline the broader capacity of the organization to complete the project outlined in the work plan. It includes the identification of personnel responsible for completing tasks and the chain of responsibility for successful completion of the project outline in the work plan. The section should clearly described the following:

(1) The structure of the organization;

(2) The ability of the organization to manage the proposed project and included information regarding similarly sized projects in scope and financial assistance as well as other awards and projects successfully completed;

(3) What equipment (e.g., phone, websites, etc.) and facility space (e.g., office space) will be available for use during the proposed project. Include information about any equipment not currently available that will be purchased throughout the agreement;

(4) Provide a list and biographical sketches for key personnel who will work on the project; and

(5) Demonstrate knowledge in:

(i) Providing administrative and support services to Tribal programs, education agencies, and other programs for the benefit of AI/AN people and Tribal communities (indicate experience in national partnerships or national support efforts on behalf of AI/AN communities especially as it pertains to health concerns); and

(ii) Financial and project management.

E. Categorical Budget and Budget Justification (10 Points)

This section should provide a clear estimate of the project program costs and justification for expenses for the entire cooperative agreement period. The budget and budget justification should be consistent with the tasks identified in the work plan.

(1) Categorical budget (Form SF-424A, Budget Information Non-Construction Programs) completed for the first budget period.

(2) Narrative justification for all costs, explaining why each line item is necessary or relevant to the proposed project. Include sufficient details to facilitate the determination of cost allowability.

(3) Indication of any special start-up costs.

(4) Budget justification should include a description of the planned costs and how those costs relate to or support the proposed project activities.

Additional documents can be uploaded as Other Attachments in Grants.gov. These can include:

• Timeline for proposed objectives.

• Current Indirect Cost Rate Agreement.

• Map of area identifying project location(s).

• Additional documents to support narrative (i.e., data tables, key news articles, etc.).

• Additional letters of support and assistance

• Financial statements

• Other similar project documents (e.g., budgets)

2. Review and Selection

Each application will be prescreened for eligibility and completeness as outlined in the funding announcement. Applications that meet the eligibility criteria shall be reviewed for merit by the Review Committee (RC) based on the evaluation criteria. Incomplete applications and applications that are not responsive to the administrative thresholds (budget limit, period of performance limit) will not be referred to the RC and will not be funded. The DGM will notify the applicant of this determination.

Applicants must address all program requirements and provide all required documentation.

3. Notifications of Disposition

All applicants will receive an Executive Summary Statement from the IHS DDTP within 30 days of the conclusion of the RC outlining the strengths and weaknesses of their application. The summary statement will be sent to the Authorizing Official identified on the face page (SF-424) of the application.

A. Award Notices for Funded Applications

The NoA is the authorizing document for which funds are dispersed to the approved entities and reflects the amount of Federal funds awarded, the purpose of the award, the terms and conditions of the award, the effective date of the award, the budget period, and period of performance. Each entity approved for funding must have a user account in GrantSolutions in order to retrieve the NoA. Please see the Agency Contacts list in Section VII for the systems contact information.

B. Approved But Unfunded Applications

Approved applications not funded due to lack of available funds will be held for 1 year. If funding becomes available during the course of the year, the application may be reconsidered.

Note: Any correspondence, other than the official NoA executed by an IHS grants management official announcing to the project director that an award has been made to their organization, is not an authorization to implement their program on behalf of the IHS.

VI. Award Administration Information

1. Administrative Requirements

Awards issued under this announcement are subject to, and are administered in accordance with, the following regulations and policies:

A. The criteria as outlined in this program announcement.

B. Administrative Regulations for Grants:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2021-title45-vol1/pdf/CFR-2021-title45-vol1-part75.pdf.

• Please review all HHS regulatory provisions for Termination at 45 CFR 75.372, at the time of this publication located at https://www.govinfo.gov/content/pkg/CFR-2021-title45-vol1/pdf/CFR-2021-title45-vol1-sec75-372.pdf.

C. Grants Policy:

• HHS Grants Policy Statement, Revised January 2007, at https://www.hhs.gov/sites/default/files/grants/grants/policies-regulations/hhsgps107.pdf.

D. Cost Principles:

• Uniform Administrative Requirements for HHS Awards, “Cost Principles,” at 45 CFR part 75 subpart E, at the time of this publication located at https://www.govinfo.gov/content/pkg/CFR-2021-title45-vol1/pdf/CFR-2021-title45-vol1-part75-subpartE.pdf.

E. Audit Requirements:

• Uniform Administrative Requirements for HHS Awards, “Audit Requirements,” at 45 CFR part 75 subpart F, at the time of this publication located at https://www.govinfo.gov/content/pkg/CFR-2021-title45-vol1/pdf/CFR-2021-title45-vol1-part75-subpartF.pdf.

F. As of August 13, 2020, 2 CFR part 200 was updated to include a prohibition on certain telecommunications and video surveillance services or equipment. This prohibition is described in 2 CFR 200.216. This will also be described in the terms and conditions of every IHS grant and cooperative agreement awarded on or after August 13, 2020.

2. Indirect Costs

This section applies to all recipients that request reimbursement of IDC in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable award activities under the current award's budget period. If the current rate agreement is not on file with the DGM at the time of award, the IDC portion of the budget will be restricted. The restrictions remain in place until the current rate agreement is provided to the DGM.

Per 2 CFR 200.414(f) Indirect (F&A) costs,

any non-Federal entity (NFE) [i.e., applicant] that does not have a current negotiated rate, . . . may elect to charge a de minimis rate of 10 percent of modified total direct costs which may be used indefinitely. As described in Section 200.403, costs must be consistently charged as either indirect or direct costs, but may not be double charged or inconsistently charged as both. If chosen, this methodology once elected must be used consistently for all Federal awards until such time as the NFE chooses to negotiate for a rate, which the NFE may apply to do at any time.

Electing to charge a de minimis rate of 10 percent can be used by applicants that have received an approved negotiated indirect cost rate from HHS or another cognizant Federal agency. Applicants awaiting approval of their indirect cost proposal may request the 10 percent de minimis rate. When the applicant chooses this method, costs included in the indirect cost pool must not be charged as direct costs to the award.

Available funds are inclusive of direct and appropriate indirect costs. Approved indirect funds are awarded as part of the award amount, and no additional funds will be provided.

Generally, IDC rates for IHS recipients are negotiated with the Division of Cost Allocation at https://rates.psc.gov/ or the Department of the Interior (Interior Business Center) at https://ibc.doi.gov/ICS/tribal. For questions regarding the indirect cost policy, please write to DGM@ihs.gov.

3. Reporting Requirements

The recipient must submit required reports consistent with the applicable deadlines. Failure to submit required reports within the time allowed may result in suspension or termination of an active award, withholding of additional awards for the project, or other enforcement actions such as withholding of payments or converting to the reimbursement method of payment. Continued failure to submit required reports may result in the imposition of special award provisions and/or the non-funding or non-award of other eligible projects or activities. This requirement applies whether the delinquency is attributable to the failure of the recipient organization or the individual responsible for preparation of the reports. Per DGM policy, all reports must be submitted electronically by attaching them as a “Grant Note” in GrantSolutions. Personnel responsible for submitting reports will be required to obtain a login and password for GrantSolutions. Please use the form under the Recipient User section of https://www.grantsolutions.gov/home/getting-started-request-a-user-account/. Download the Recipient User Account Request Form, fill it out completely, and submit it as described on the web page and in the form.

The reporting requirements for this program are noted below.

A. Progress Reports

Program progress reports are required annually. The progress reports are due within 90 days after the reporting period ends (specific dates will be listed in the NoA Terms and Conditions). These reports must include a brief comparison of actual accomplishments to the goals established for the period, a summary of progress to date or, if applicable, provide sound justification for the lack of progress, and other pertinent information as required. A final report must be submitted within 120 days of expiration of the period of performance.

B. Financial Reports

Federal Financial Reports are due 90 days after the end of each budget period, and a final report is due 120 days after the end of the period of performance.

Recipients are responsible and accountable for reporting accurate information on all required reports: the Progress Reports and the Federal Financial Report.

Failure to submit timely reports may result in adverse award actions blocking access to funds.

C. Data Collection and Reporting

The pilot program will develop their own unique plan for collecting data, monitoring, and assuring quality and quantity of data and the plan for evaluating and reporting the program's outcomes. The plan should include tracking and trending outcome data at baseline, semiannually, and annually. Data should include (but is not limited to):

(1) Prescription redemption and dollar amounts;

(2) Fruit and vegetable consumption;

(3) Participant retention rates;

(4) Food security via a validated measurement tool/survey;

(5) Patient experience/satisfaction results;

(6) Nutrition knowledge assessments over time;

(7) Implementation cost;

(8) Health outcomes/clinical markers (e.g. HbA1c, blood pressure, weight, BMI, waist circumference, etc.); and

(9) Health care utilization patterns.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal awards to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

E. Non-Discrimination Legal Requirements for Awardees of Federal Financial Assistance

The recipient must administer the project in compliance with Federal civil rights laws, where applicable, that prohibit discrimination on the basis of race, color, national origin, disability, age, and comply with applicable conscience protections. The recipient must comply with applicable laws that prohibit discrimination on the basis of sex, which includes discrimination on the basis of gender identity, sexual orientation, and pregnancy. Compliance with these laws requires taking reasonable steps to provide meaningful access to persons with limited English proficiency and providing programs that are accessible to and usable by persons with disabilities. The HHS Office for Civil Rights provides guidance on complying with civil rights laws enforced by HHS. See https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/civil-rights/for-individuals/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

• Pursuant to 45 CFR 80.3(d), an individual shall not be deemed subjected to discrimination by reason of their exclusion from benefits limited by Federal law to individuals eligible for benefits and services from the IHS.

F. Federal Awardee Performance and Integrity Information System (FAPIIS)

The IHS is required to review and consider any information about the applicant that is in the FAPIIS at https://www.fapiis.gov/fapiis/#/home before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10 million for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award.

All applicants and recipients must disclose in writing, in a timely manner, to the IHS and to the HHS Office of Inspector General all information related to violations of Federal criminal law involving fraud, bribery, or gratuity violations potentially affecting the Federal award. 45 CFR 75.113.

Disclosures must be sent in writing to:

U.S. Department of Health and Human Services, Indian Health Service, Division of Grants Management, ATTN: Marsha Brookins, Director, 5600 Fishers Lane, Mail Stop: 09E70, Rockville, MD 20857, (Include “Mandatory Grant Disclosures” in subject line), Office: (301) 443-5204, Fax: (301) 594-0899, Email: DGM@ihs.gov

AND

U.S. Department of Health and Human Services, Office of Inspector General, ATTN: Mandatory Grant Disclosures, Intake Coordinator, 330 Independence Avenue SW, Cohen Building, Room 5527, Washington, DC 20201, URL: https://oig.hhs.gov/fraud/report-fraud/, (Include “Mandatory Grant Disclosures” in subject line), Fax: (202) 205-0604 (Include “Mandatory Grant Disclosures” in subject line) or, Email: MandatoryGranteeDisclosures@oig.hhs.gov

Failure to make required disclosures can result in any of the remedies described in 45 CFR 75.371 Remedies for noncompliance, including suspension or debarment (see 2 CFR part 180 and 2 CFR part 376).

VII. Agency Contacts

1. Questions on the programmatic issues may be directed to: Ms. Carmen Licavoli Hardin, Director, Indian Health Service, Division of Diabetes Treatment and Prevention, 5600 Fishers Lane, Mail Stop: 08N34A&B, Rockville, MD 20897, Phone: 1-844-IHS-DDTP (1-844-447-3387), Fax: 301-594-6213, Email: diabetesprogram@ihs.gov.

2. Questions on grants management and fiscal matters may be directed to: Indian Health Service, Division of Grants Management, 5600 Fishers Lane, Mail Stop: 09E70, Rockville, MD 20857, Email: DGM@ihs.gov.

3. For technical assistance with Grants.gov, please contact the Grants.gov help desk at (800) 518-4726, or by email at support@grants.gov.

4. For technical assistance with GrantSolutions, please contact the GrantSolutions help desk at (866) 577-0771, or by email at help@grantsolutions.gov.

VIII. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

P. Benjamin Smith,
Deputy Director, Indian Health Service.

[FR Doc. 2023-08614 Filed 4-21-23; 8:45 am]

BILLING CODE 4165-16-P